DEPARTMENT OF THE INTERIOR

Bureau of Land Management

[NM-050-5420-G507; NMNM 109216]

Notice of Application for Recordable Disclaimer of Interest; New Mexico

AGENCY: Bureau of Land Management, Interior.

ACTION: Notice.

SUMMARY: Mr. Richard L. Epstein and Ms. Carolyn Kernberger submitted an application for a recordable disclaimer of interest from the United States, pursuant to Section 315 of the Federal Land Policy and Management Act of 1976, as amended (43 U.S.C. 1745), for the following described land, in Socorro County:

New Mexico Principal Meridian, New Mexico

A certain tract of land situate in Section 7, T. 2 S., R. 1 E., NMPM, being that accreted land lying westerly of and adjoining lot 3 and lot 4 of Section 7, T. 2 S., R. 1 E., NMPM. A recordable disclaimer of interest, if issued, will confirm the United States has no interest in the subject lands. This notice is intended to notify the public of the pending application and the applicants' grounds supporting it. The acres for this disclaimer are 30.54.

FOR FURTHER INFORMATION CONTACT: Jon Hertz, Assistant Socorro Field Office Manager at (505) 835-0412.

SUPPLEMENTARY INFORMATION: On May 15, 2003, Mr. Richard L. Epstein and Ms. Carolyn Kernberger filed an application for a recordable disclaimer of interest for lands that lie between the western boundary of their property and the Rio Grande. According to the applicant's, a cloud on their title presently exists because BLM has determined that these lands along the Rio Grande have accreted to their property. BLM Cadastral Survey examined the documents provided and agreed with the assessment that the accreted lands westerly of lots 3 and 4, and the 1981 riverbank in T. 2 S., R. 1 E., NMPM, section 7, do indeed attach to the private uplands described as lot 3 and lot 4.

All persons who wish to present comments, suggestions, or objections in connection with the proposed disclaimer may do so by writing to the Field Office Manager, Socorro Field Office, 198 Neel Avenue, NW., Socorro, NM 87801 until October 12, 2004. If no objections are received, the disclaimer will be published shortly after these 90 days have lapsed.

Dated: April 21, 2004.
Jonathan Hertz,
Socorro Field Manager.

[FR Doc. 04-15895 Filed 7-13-04; 8:45 am]

BILLING CODE 4310-FB-P